DEPARTMENT OF HOUSING AND URBAN DEVELOPMENT

[Docket No. FR-7062-N-16]

Privacy Act of 1974; System of Records

AGENCY: Office of Policy Development & Research, HUD.

ACTION: Notice of a new system of records.

SUMMARY: Pursuant to the provisions of the Privacy Act of 1974, as amended, the Department of the Housing and Urban Development (HUD), Office of Policy Development & Research (PD&R) is issuing a public notice of its intent to establish a Privacy Act system of records titled the Stepped and Tiered Rent Demonstration Evaluation data files. The purpose of the Stepped and Tiered Rent Demonstration Evaluation data files system is to serve as a repository to store, maintain, and statistically analyze all data collected through the evaluation of the Stepped and Tiered Rent Demonstration.

DATES: Comments will be accepted on or before October 13, 2022. This proposed action will be effective on the date following the end of the comment period unless comments are received which result in a contrary determination.

ADDRESSES: You may submit comments, identified by one of the following methods:

Federal e-Rulemaking Portal: http://www.regulations.gov. Follow the instructions provided on that site to submit comments electronically.

Fax: 202-619-8365.

Email: privacy@hud.gov.

Mail: Attention: Privacy Office; LaDonne White, Chief Privacy Officer; The Executive Secretariat; 451 Seventh Street SW, Room 10139, Washington, DC 20410-0001.

Instructions: All submissions received must include the agency name and docket number for this rulemaking. All comments received will be posted without change to http://www.regulations.gov. including any personal information provided.

Docket: For access to the docket to read background documents or comments received go to http://www.regulations.gov.

FOR FURTHER INFORMATION CONTACT: The Privacy Office; LaDonne White; 451 Seventh Street, SW, Room 10139; Washington, DC 20410-0001; telephone number 202-708-3054 (this is not a toll-free number). Individuals who are hearing- or speech-impaired may access this telephone number via TTY by calling the Federal Relay Service at 800-877-8339 (this is a toll-free number).

SUPPLEMENTARY INFORMATION: The Stepped and Tiered Rent Demonstration (STRD) is an experiment that will be carried out by Public Housing Agencies (PHAs) in the second cohort of the Moving to Work (MTW) Expansion, in which 10 PHAs will test new ways of setting rents in HUD-assisted housing. These new rent policies—stepped rents and tiered rents—will be implemented as a randomized controlled trial (RCT); eligible households will be randomly assigned to continue paying rent under traditional rules or to pay rent under the new rules (the stepped rent or tiered rent). The Stepped and Tiered Rent Demonstration Evaluation Data Files will be a data system established to store the information that is needed to evaluate the impact of the stepped and tiered rent policies. HUD researchers (including MDRC, the contractor currently leading the evaluation) will use this information to examine a broad range of household outcomes related to self-sufficiency and housing subsidies. Researchers will also seek to understand the experience of households participating in the new rent policies and the PHAs that implement the new rent policies. This System of Records will contain data necessary to evaluate the effect of these new rent policies.

SYSTEM NAME AND NUMBER:

Stepped and Tiered Rent Demonstration Evaluation Data Files, PD&R/RRE.04.

SECURITY CLASSIFICATION:

Unclassified.

SYSTEM LOCATION:

The Stepped and Tiered Rent Demonstration Evaluation Files are maintained at the following locations: MDRC's FedRAMP-approved cloud storage environment (MDRC offices are at 200 Vesey Street, 23rd Floor, New York, NY 10281-2103); and the U.S. Department of Housing and Urban Development, 451 7th Street SW, Washington, DC 20410-0001.

SYSTEM MANAGER(S):

Carol Star, Director, Program Evaluation Division, Office of Policy Development and Research, Department of Housing and Urban Development, 451 7th Street SW, Washington, DC 20410-0001, telephone Number (202) 402-6139.

AUTHORITY FOR MAINTENANCE OF THE SYSTEM:

Sections 501 and 502 of the Housing and Urban Development Act of 1970 (Pub. L. 91-609) (12 U.S.C. 1701z-1; 1701z-2(d) and (g)).

PURPOSE(S) OF THE SYSTEM:

The purpose of the Stepped and Tiered Rent Demonstration Evaluation Data Files will be to store the information that is needed to evaluate the impact of the Stepped and Tiered Rent Demonstration. The information to be maintained in this records system is necessary to identify and track the participating families over the course of the study and determine the effectiveness of the interventions. The data in this system will be analyzed using statistical methods and any results shared with the public or published in anyway will be reported only in the aggregate. Resulting reports will not disclose or identify any individuals or sensitive personal information.

CATEGORIES OF INDIVIDUALS COVERED BY THE SYSTEM:

Families enrolled in the Stepped and Tiered Rent Demonstration.

CATEGORIES OF RECORDS IN THE SYSTEM:

Tenant data: Includes enrollment information, administrative data, and baseline survey responses from tenants, including: head of household's full name, date of birth, social security number, unique study ID, home address, household composition, demographics of household members, educational attainment, employment and income information, housing and housing subsidy information, receipt of non-housing public benefits, and contact information.

RECORD SOURCE CATEGORIES:

Stepped and Tiered Rent Demonstration program participants, HUD PIH Inventory Management System/PIH Information Center, National Directory of New Hires, Homelessness Management Information Systems, Public Housing Agency information systems.

ROUTINE USES OF RECORDS MAINTAINED IN THE SYSTEM, INCLUDING CATEGORIES OF USERS AND PURPOSES OF SUCH USES:

(1) To contractors, grantees, experts, consultants, Federal agencies, and non-Federal entities, including, but not limited to, State and local governments and other research institutions or their parties, and entities and their agents with whom HUD has a contract, service agreement, grant, cooperative agreement, or other agreement, for the purposes of statistical analysis and research in support of program operations, management, performance monitoring, evaluation, risk management, and policy development, or to otherwise support the Department's mission. Records under this routine use may not be used in whole or in part to make decisions that affect the rights, benefits, or privileges of specific individuals. The results of the matched information may not be disclosed in identifiable form.

(2)(a) To appropriate agencies, entities, and persons when: (1) HUD suspects or has confirmed there has breached the system of records; (2) HUD has determined that as a result of the suspected or confirmed breach there is a risk of harm to individuals, HUD (including its information systems, programs, and operations), the Federal Government, or national security; and (3) The disclosure made to such agencies, entities, and persons is reasonably necessary to assist with HUD's efforts to respond to the suspected or confirmed breach or to prevent, minimize, or remedy such harm.

(3) To another Federal agency or Federal entity, when HUD determines that information from this system of records is reasonably necessary to assist the recipient agency or entity in (1) responding to suspected or confirmed breach, or (2) preventing, minimizing, or remedying the risk of harm to individuals, the recipient agency or entity (including its information systems, programs, and operations), the Federal Government, or national security, resulting from a suspected or confirmed breach.

POLICIES AND PRACTICES FOR STORAGE OF RECORDS:

Electronic and Paper.

POLICIES AND PRACTICES FOR RETRIEVAL OF RECORDS:

Records are retrieved by the Name, SSN, unique study ID, home address, telephone number, and personal email address.

POLICIES AND PRACTICIES FOR RETENTION AND DISPOSAL OF RECORDS:

Temporary. Destroy upon verification of successful creation of the final document or file, or when no longer needed for business use, whichever is later.

ADMINISTRATIVE, TECHNICAL, AND PHYSICAL SAFEGUARDS:

For Electronic Records: All personal data will be maintained on a secure workstation or server that is protected by a firewall and complex passwords in a directory that can only be accessed by the network administrators and the analysts actively working on the data; access rights to the data are granted to limited researchers on a need-to-know basis, and the level of access provided to each researcher is based on the minimal level required that individual to fulfill his research role; all systems used to process or store data have Federal security controls applied to them; the data will be backed up on a regular basis to safeguard against system failures or disasters; and, unencrypted data will never be stored on a laptop or on a movable media such as CDs, diskettes, or USB flash drives.

For Paper Records: The site interviewers will securely store any hard copy forms with personal identifiers until they are shipped to the evaluation contractor via commercial mail services; all hard copy forms with personal identifying data (the participant agreement/informed consent form) will be stored securely in a locked cabinet that can only be accessed by authorized individuals working on the data. The locked cabinet will be stored in a locked office in a limited-access building. Additionally, permissions will be defined for each authorized user based on the user's role on the project. For example, the local site interviewer will be able to review data for study participants only for his or her own specific site. Study data will be aggregated or de-identified at the highest level possible for each required, authorized use.

RECORD ACCESS PROCEDURES:

Individuals seeking notification of and access to their records in this system of records may submit a request in writing to the Department of Housing and Urban Development, Attn: FOIA Program Office, 451 7th Street SW, Suite 10139, Washington, DC 20410-0001 or by emailing foia@hud.gov. Individuals must furnish the following information for their records to be located:

1. Full name.

2. Signature.

3. The reason why the individual believes this system contains information about him/her.

4. The address to which the information should be sent.

CONTESTING RECORD PROCEDURES:

Same as the Notification Procedures above.

NOTIFICATION PROCEDURES:

Any person wanting to know whether this system of records contains information about him or her should contact the System Manager. Such person should provide his or her full name, position title and office location at the time the accommodation was requested, and a mailing address to which a response is to be sent.

EXEMPTIONS PROMULGATED FOR THE SYSTEM:

None.

HISTORY:

N/A.

LaDonne White,
Chief Privacy Officer, Office of Administration.

[FR Doc. 2022-19717 Filed 9-12-22; 8:45 am]

BILLING CODE P